DEPARTMENT OF TRANSPORTATION

Federal Aviation Administration

Policy Statement Number PS-ACE100-2001-004, Guidance for Reviewing Certification Plans To Address Human Factors for Certification of Part 23 Small Airplanes

AGENCY: Federal Aviation Administration (FAA), DOT.

ACTION: Notice of issuance of policy.

SUMMARY: This notice announces the issuance of policy statement number PS-ACE100-2001-004, Guidance for Reviewing Certification Plans to Address Human Factors for Certification of Part 23 Small Airplanes. This policy clarifies Federal Aviation Administration certification policy on human factors.

DATES: Policy PS-ACE100-2001-004 was issued by the Manager of the Small Airplane Directorate, ACE-100, on August 29, 2002.

How to Obtain Copies: A paper copy of policy statement PS-ACE100-2001-004 may be obtained by contacting Ms. Pat Nininger by telephone at 816-329-4111 or by addressing your request to her at ACE-111, 901 Locust, Room 301, Kansas City, MO 64106 or by faxing your request to 816-329-4090. The policy will also be available on the Internet at http://www.faa.gov/certification/aircraft/small_airplane_ directorate_advisory.htm.

Issued in Kansas City, Missouri on September 13, 2002.
Michael Gallagher,
Manager, Small Airplane Directorate, Aircraft Certification Service.

[FR Doc. 02-24450 Filed 9-25-02; 8:45 am]

BILLING CODE 4910-13-U